ENVIRONMENTAL PROTECTION AGENCY

[ER-FRL-9013-5]

Environmental Impact Statements; Notice of Availability

Responsible Agencyy: Office of Federal Activities, General Information (202) 564-7146 or http://www.epa.gov/compliance/nepa/.

Weekly receipt of Environmental Impact Statements

Filed 02/03/2014 Through 02/07/2014

Pursuant to 40 CFR 1506.9.

Notice

Section 309(a) of the Clean Air Act requires that EPA make public its comments on EISs issued by other Federal agencies. EPA's comment letters on EISs are available at: http://www.epa.gov/compliance/nepa/eisdata.html.

EIS No. 20140035, Draft EIS, FHWA, NY, Interstate 87 (I-87) Exit 4 Access Improvements, Comment Period Ends: 04/01/2014, Contact: Jonathan McDade 518-431-4127.

EIS No. 20140036, Final EIS, BIA, NV, RES Americas Moapa Solar Energy Center, Review Period Ends: 03/17/2014, Contact: Garry Cantley

602-379-6750 Ext. 1256.

EIS No. 20140037, Final EIS, NPS, CA, Merced Wild and Scenic River Final Comprehensive Management Plan, Review Period Ends: 03/17/2014, Contact: Kathleen Morse 209-379-1110.

EIS No. 20140038, Draft Supplement, NMFS, 00, Fishery Management Plan for Regulating Offshore Marine Aquaculture in the Gulf of Mexico, Comment Period Ends: 03/31/2014, Contact: Jess Beck-Stimpert 727-551-5755.

Amended Notices

EIS No. 20140012, Draft EIS, HHS, GA, Centers for Disease Control and Prevention Roybal Campus 2015-2025 Master Plan, Comment Period Ends: 04/10/2014, Contact: George Chandler 404-245-2763. Revision to the FR Notice Published 01/24/2014; Extending Comment Period from 03/10/2014 to 04/10/2014.

Dated: February 11, 2014.
Cliff Rader,
Director, NEPA Compliance Division, Office of Federal Activities.

[FR Doc. 2014-03317 Filed 2-14-14; 8:45 am]

BILLING CODE 6560-50-P